DEPARTMENT OF THE INTERIOR

National Park Service

[NPS-PWR-PWRO-17880; PX.PR099106F.00.1]

Draft Environmental Impact Statement for General Management Plan, City of Rocks National Reserve, Cassia County, Idaho

AGENCY: National Park Service, Interior.

ACTION: Notice of availability.

SUMMARY: The National Park Service (NPS), in cooperation with the Idaho Department of Parks and Recreation and the Bureau of Land Management, has prepared a Draft Environmental Impact Statement (DEIS) and General Management Plan (GMP) for City of Rocks National Reserve (Reserve). The DEIS evaluates four GMP alternatives for management of the City of Rocks National Reserve. When approved, the GMP will allow for implementation of a range of management actions to improve protection of natural and cultural resources and visitor experience within the Reserve.

DATES: All comments must be postmarked or transmitted not later than 60 days from the date of publication in the Federal Register of the Environmental Protection Agency's notice of filing and release of the DEIS. Immediately upon confirmation of this date, all entities on the project mailing list will be notified, and public announcements about the DEIS review period will be posted on the project Web site (http://parkplanning.nps.gov/ciro) and distributed via local and regional press media.

FOR FURTHER INFORMATION CONTACT: Please contact GMP Planning Team Leader Amanda Schramm at (206) 220-4112.

SUPPLEMENTARY INFORMATION: City of Rocks National Reserve (Reserve) was designated as a unit of the national park system on November 18, 1988, by the Arizona-Idaho Conservation Act of 1988 (Pub. L. 100-696) and is managed cooperatively by the NPS and Idaho Department of Parks and Recreation (IDPR). The Reserve is located in the Albion Mountains in southwest Idaho and is one of many publicly owned areas within the region. The Reserve contains unique and diverse resources. The geologic features are world-renowned both for rock climbing and academic study. Vegetation communities include sagebrush steppe, pinyon-juniper woodlands, mountain mahogany woodlands, and higher elevation forest communities of aspen, subalpine fir, lodgepole pine, and limber pine. Idaho's only known population of cliff chipmunk is found in the Reserve and on adjacent lands. Other wildlife species include mule deer, coyote, bobcat, mountain lion, moose, elk, and bighorn sheep.

The Reserve preserves and protects 6.2 miles of the California National Historic Trail, 1.8 miles of the Salt Lake Alternate, and the surrounding cultural landscape, which includes remnant historic trail ruts, more than 350 emigrant signatures on 22 rocks, and portions of the Mormon Battalion Trail and the Kelton-Boise Stage Route. The Reserve comprises an area of 14,407 acres. Of that total, approximately 9,680 acres are federally-owned, 4,087 acres are privately-owned, and 640 acres are owned by the State of Idaho. Private land within the Reserve is regulated by Cassia County zoning and subdivision ordinances. Although considered nontraditional uses in most national park units, cattle grazing and hunting occur within the Reserve. The Shoshone-Bannock Tribes also continue traditional uses, such as seasonal hunting and pine nut gathering.

The GMP is needed because the 1996 City of Rocks National Reserve Comprehensive Management Plan is outdated and no longer provides adequate guidance to address the policy and operational issues now facing the Reserve. Many of the actions in the comprehensive management plan have been implemented, but other actions are either outdated, cost-prohibitive, or cannot be executed for other reasons, including current property ownership. The new GMP seeks to: (1) Describe purpose, significance, special mandates, fundamental resources and values, and primary interpretive themes for the Reserve through foundation planning; (2) clearly define resource conditions, visitor uses, and experiences to be achieved within the Reserve; (3) provide a framework for Reserve managers to guide decisions about protecting Reserve resources and providing high-quality visitor experiences through management of visitor activities and facilities; and (4) develop a foundation for NPS decision-making in consultation with interested stakeholders and IDPR leadership, based on analysis of the benefits, impacts, and costs of the alternatives.

The new GMP will address several issues facing the Reserve. In 1996 when the Comprehensive Management Plan was produced, approximately 50 percent of the land within the Reserve was in public ownership. Today, that percentage is approximately 70 percent, resulting in additional planning opportunities for newly acquired parcels. A land protection plan (LPP) currently underway will be completed following the publication of the GMP. The LPP will define those land interests that are most important to fulfilling the purpose of the Reserve, the resource protection reasons for acquisition, and the priority for and types of acquisition, as developed in consultation with the Reserve superintendent. Any lands proposed for acquisition would be by willing seller only, and would be consistent with Reserve legislation and NPS policies.

Visitation within the Reserve rose from approximately 81,000 visitors in 1993 to more than 99,439 in 2011. Population growth in the nearby metropolitan areas of Salt Lake City and the Pocatello/Idaho Falls area is expected to increase in the next 20 years, potentially affecting visitation and use within the Reserve. Because of increased visitation, there is a need to evaluate existing facilities. The temporary visitor center serving both the Reserve and Castle Rocks State Park is located in a 100-year-old house that is inadequate to accommodate the use of the thousands of visitors that pass through for orientation and information.

Although many campsites in the Reserve that existed when the Reserve was established have been closed or rehabilitated, there are lingering issues that need to be addressed including campsites that conflict with day use activities, safety and visual issues with some roadside campsites, and the need for additional toilets. Most campsites in the Reserve are located along the southern and western rim of Circle Creek Basin—these sites offer prime views of the “Inner City” pinnacles, as well as more expansive views of Granite Ridge that completes the northern encirclement of the basin. Intensive use during some seasons has caused parking conflicts, especially associated with horse trailer and large recreational vehicle parking. The GMP includes a development concept plan to address these specific issues, including comprehensive assessment of the trail system with associated parking, picnicking, and trailheads.

Several plans completed since the 1996 comprehensive management plan are now due for revision, and additional plans are needed to better inform Reserve management. Among these plans are the grazing management plan, fire management plan and vegetation management plan. The GMP is intended to provide more direction for their development.

The DEIS also includes a wilderness eligibility assessment because all lands administered by the NPS must be evaluated for their eligibility for inclusion in the National Wilderness Preservation System. The assessment concludes that lands within the Reserve boundary do not meet the requirements necessary to qualify on their own for designation by Congress as Wilderness. However, while Reserve lands alone do not meet the criteria, the area could contribute to a larger area of potential wilderness, if the Sawtooth National Forest were to reconsider its management plan prescription for inventoried roadless areas immediately north of the Reserve.

Current management zoning for the Reserve uses both zones and subzones and covers both private and public land. Many of the prescriptions for these are overlapping or contradictory and at times confusing for Reserve managers. In addition, a section of the Reserve at the eastern boundary was not zoned on the 1996 management zoning map and needs to be corrected.

Alternatives: Four GMP alternatives are identified and analyzed in the DEIS, and are briefly described below. In addition, a Development Concept Plan (DCP) is included for the “Rim” area of the Reserve (the western rim of Circle Creek Basin) to provide a framework to enhance and improve visitor facilities and visitor experience in this area. The DCP addresses a broad spectrum of issues and use conflicts between recreational activities—in particular, day-use activities and overnight camping.

Alternative A (No Action Alternative) would continue current management, programming, facilities, staffing, and funding at their current levels, and existing plans would be implemented.

Alternative B: Silent City of Rocks (preferred alternative) would focus on the spectacular scenery, geology, biological richness, and cultural landscape experienced by past and present visitors. It would emphasize a backcountry-type visitor experience that would allow for self-discovery within a minimally developed western outdoor environment.

Alternative C: A Stage for Stewardship would protect resources through research activities, educational opportunities, and partnerships by emphasizing the national significance of the Reserve. Visitors would be provided opportunities to learn about the history and the natural wonders within the Reserve.

Alternative D: Treasured Landscapes Inspiring Stories would tell stories of the Reserve through the people who pass through, live, and recreate within it, focusing on the California Trail and the ranching heritage. It would emphasize a frontcountry, day-use experience with more formal and structured recreational opportunities and programs.

Public Engagement: Public scoping formally began on August 25, 2009, with the Federal Register publication of a Notice of Intent to prepare an Environmental Impact Statement, followed by widespread mailing of Newsletter #1 which generally described the conservation planning and environmental impact analysis process and the purpose and need for the planning effort. Five public meetings (in Almo, Burley, Pocatello, Boise, and Ketchum, Idaho, during September 21—October 22, 2009) provided an early opportunity for the public to identify issues. Newsletter #2 distributed in winter, 2009/2010 summarized public scoping comments. A third newsletter presenting preliminary alternatives followed in April 2011. In addition to a public meeting at park headquarters in Almo, Idaho, numerous meetings with stakeholders, including the Bureau of Land Management, occurred following announcement of the preliminary alternatives. Newsletter #3 and the stakeholders meeting were announced via news releases to several media outlets, including local newspapers and radio and television stations. Lastly, a fourth newsletter distributed in March 2012, summarized the more than 150 public comments on the preliminary alternatives.

To facilitate public review of DEIS/GMP, the Reserve Superintendent and NPS planning team will host a public meeting at park headquarters in Almo, Idaho with another meeting possible in Twin Falls, Idaho. As soon as confirmed date(s), specific location(s), and time(s) are determined, this information will be announced via local and regional news media and on the Reserve's Web site (www.nps.gov/ciro). Participants are strongly encouraged to review the Executive Summary and/or complete document prior to attending a meeting. The format will include a brief presentation on the essential elements of the DEIS/GMP, followed by the opportunity to ask questions and provide comments. All meeting locations will be accessible for disabled persons. A sign language interpreter may be available (request in advance by contacting the Reserve at (208) 824-5911).

How to Comment: Information about the 60 day public review and comment period will be announced via local and regional news media. An Executive Summary newsletter for the DEIS/GMP will be mailed to interested parties. Printed copies of the complete document will be available for review at park headquarters in Almo, Idaho, as well as in local public libraries in Burley and Twin Falls, Idaho. Electronic versions of the document will also be available on the Reserve's Web site (www.nps.gov/ciro), and limited numbers of printed or CD format documents may be requested by contacting the Reserve at (208) 824-5911.

Written comments should be addressed to: Superintendent, ATTN: City of Rocks General Management Plan, City of Rocks National Reserve, P.O. Box 169, Almo, ID 83312. Reviewers may also submit comments electronically at http://parkplanning.nps.gov/ciro. Before including your address, phone number, email address, or other personal identifying information in your comment, you should be aware that your entire comment—including your personal identifying information—may be made publicly available at any time. While you can ask us in your comment to withhold your personal identifying information from public review, we cannot guarantee that we will be able to do so.

Decision Process: Following due consideration of all agency and public comments which are received, a Final Plan/EIS will be prepared; at this time it is anticipated the final document will be available for public inspection during winter, 2015/2016. Because this is a delegated EIS process, the official responsible for the final decision on the GMP is the Regional Director, Pacific West Region, National Park Service. The official responsible for implementation of the approved GMP is the Superintendent, City of Rocks National Reserve.

Dated: March 13, 2015.
Christine S. Lehnertz,
Regional Director, Pacific West Region.

Editor's note: This document was received by the Office of the Federal Register on June 29, 2015.

[FR Doc. 2015-16319 Filed 7-1-15; 8:45 am]

BILLING CODE 4312-FF-P